DEPARTMENT OF TRANSPORTATION

Bureau of Transportation Statistics

[Docket Number—RITA—2006—26278]

Request for OMB Clearance of an Information Collection; Survey of State Funding for Public Transportation

AGENCY: Research and Innovative Technology Administration, Bureau of Transportation Statistics (RITA/BTS), DOT.

ACTION: Notice.

SUMMARY: In compliance with the Paperwork Reduction Act of 1995, Public Law 104-13, the Bureau of Transportation Statistics invites the general public, industry and other governmental parties to comment on the continuing need for and usefulness of Survey of State Funding for Public Transportation.

DATES: Written comments should be submitted by January 12, 2007.

ADDRESSES: You may submit a comment (identified by DMS Docket Number RITA-2006-26278) through one of the following methods:

Web site: http://dms.dot.gov. Follow the instructions for submitting comments on the DOT electronic docket site.

Fax: 1-202-493-2251.

Mail: Docket Management Facility; U.S. Department of Transportation, 400 Seventh Street, SW., Nassif Building, Room PL-401, Washington, DC 20590-001.

Hand Delivery: Room PL-401 on the plaza level of the Nassif Building, 400 Seventh Street, SW., Washington, DC, between 9 a.m. and 5 p.m., Monday through Friday, except Federal Holidays.

Instructions: All comments must include the agency name and DMS Docket Number RITA-2006-26278. Note that all comments received will be posted without change to http://dms.dot.gov, including and personal information provided. You should know that anyone is able to search the electronic form of all comments received into any of our dockets by the name of the individual submitting the comment (or signing the comment, if submitted on behalf of an association, business, labor union, etc.) You may review DOT's complete Privacy Act Statement in the Federal Register published on April 11, 2000 (Volume 65, Number 70; Pages 19475-19570) or you may visit http://dms.dot.gov.

Docket: For access to the docket to read background documents or comments, go to http://dms.dot.gov at any time or to Room PL-401 on the plaza level of the Nassif Building, 400 Seventh Street, SW., Washington, DC, between 9 a.m. and 5 a.m., Monday through Friday, except Federal holidays.

If you wish to receive confirmation of receipt of your written comments, please include a self-addressed, stamped postcard with the following statement: “Comments on Docket RITA-2006-26278. The Docket Clerk will date stamp the postcard prior to returning it to you via the U.S. mail. Please note that due to delays in the delivery of U.S. mail to Federal offices in Washington, DC, we recommend that persons consider and alternative method (Internet, fax, or professional delivery service) to submit comments to the docket and ensure their timely receipt at U.S. DOT.

Comments: We particularly request your comments on the accuracy of the estimated burden; ways to enhance the quality, usefulness, and clarity of the collected information; and ways to minimize the collection burden without reducing the quality of the information collected including additional use of automated collection techniques or other forms of information technology.

FOR FURTHER INFORMATION CONTACT: Ms. June Jones,Office of Advanced Studies, RTS-31, Room 3430, Department of Transportation, Research and Innovative Technology Administration, Bureau of Transportation Statistics, 400 Seventh Street, SW., Washington, DC 20590-0001, (202) 366-474.

SUPPLEMENTARY INFORMATION: OMB Approval No. 2139-NEW.

Title: Survey of State Funding for Public Transportation.

Form No.: None.

Type of Review: New Collection (previously part of 2139-0007 which is being discontinued as of November 30, 2006.)

Respondents: Fifty States and the District of Columbia.

Number of Respondents: 51.

Estimated Time per Response: Two hours or 120 minutes.

Total Annual Burden: 102 hours.

Needs and Uses: This survey provides data that are used to create an annual summary report of State funding for public transportation in the 50 States and the District of Columbia. The information in this report is widely used and requested by Congress, State legislatures and local governing bodies. The information is useful in showing state comparisons in types of public transportation programs as well as commitment to fund public transportation capital and operation costs.

Description of Survey: The survey includes, by state, types of public transportation programs, funding sources and funding amounts, eligible uses and allocation of funding. The primary purpose of the Survey of State Funding for Public Transportation is to create an annual report which provides a State by State summary of public transportation funding information. The Survey of State Funding for Public Transportation is designed as an annual survey.

Burden Statement: The total annual respondent burden estimate is 102 hours. The burden hours per State will vary based on the amount of State transit, with an average respondent burden of 2 hours.

Issued in Washington, DC on November 6, 2006.
William Bannister,
Office of Advanced Studies, Research and Innovative Technology Administration,Bureau of Transportation Statistics.

[FR Doc. E6-19096 Filed 11-9-06; 8:45 am]

BILLING CODE 4910-HY-P